FEDERAL COMMUNICATIONS COMMISSION

47 CFR Part 1

[GC Docket No. 95-21]

Ex Parte Presentations in Commission Proceedings; Correction

AGENCY: Federal Communications Commission.

ACTION: Final rule; correction.

SUMMARY: On December 9, 1999 (64 FR 68946), the Commission revised the rules governing ex parte presentations in Commission proceedings. Inadvertently, a note to § 1.1202(d)(1) was omitted. This document corrects this rule.

DATES: Effective September 18, 2000.

SUPPLEMENTARY INFORMATION: The Federal Communications Commission published a document amending part 1 of the Commission's rules in the Federal Register on December 9, 1999 (64 FR 68946). This document corrects the Federal Register as it appeared in rule FR Doc. 99-31620, published on December 9, 1999 (64 FR 68946).

§ 1.1202 [Corrected]

1. On page 68947, in the second column, in § 1.1202, paragraph (d) is corrected to add Note 1 to paragraph (d)(1) to read as follows:

* * * * *

Note 1 to paragraph (d)(1): Persons who file mutually exclusive applications for services that the Commission has announced will be subject to competitive bidding or lotteries shall not be deemed parties with respect to each others' applications merely because their applications are mutually exclusive. Therefore, such applicants may make presentations to the Commission about their own applications provided that no one has become a party with respect to their application by other means, e.g., by filing a petition or other opposition against the applicant or an associated waiver request, if the petition or opposition has been served on the applicant.

* * * * *

Federal Communications Commission.
Magalie Roman Salas,
Secretary.

[FR Doc. 00-23212 Filed 9-15-00; 8:45 am]

BILLING CODE 6712-01-P